FEDERAL COMMUNICATIONS COMMISSION

47 CFR Part 69

[WC Docket No. 05-25; RM-10593; DA 14-1328]

Special Access Proceeding; Comment Deadline Extended

AGENCY: Federal Communications Commission.

ACTION: Proposed rule; extension of comment and reply comment period.

SUMMARY: In this document, the Wireline Competition Bureau (Bureau) extends the deadline for filing comments and reply comments in the Special Access Proceeding Further Notice of Proposed Rulemaking (FNPRM) regarding possible changes to the special access rules that apply to incumbent local exchange carriers that are subject to price cap regulation. This extension is necessary to allow time for the Federal Communications Commission (Commission) to collect data that will be used for a proposed one-time, multi-faceted market analysis of the special access market and for potential commenters to review the data in advance of submitting comments and replies.

DATES: Comments for section IV.B of the FNPRM are due on or before April 6, 2015, and reply comments are due on or before May 18, 2015.

ADDRESSES: You may submit comments identified by WC Docket No. 05-25 and RM-10593 by any of the following methods:

Federal Communications Commission's Web site: http://fjallfoss.fcc.gov/ecfs2/. Follow the instructions for submitting comments.

People with Disabilities: Contact the Commission to request reasonable accommodations (accessible format documents, sign language interpreters, CART, etc.) by email: FCC504@fcc.gov or phone: 202-418-0530 or TTY: 202-418-0432.

For additional information and instructions for submitting comments, see the SUPPLEMENTARY INFORMATION section of this document.

FOR FURTHER INFORMATION CONTACT: Christopher Koves, Pricing Policy Division, Wireline Competition Bureau, 202-418-8209, at Christopher.koves@fcc.gov.

SUPPLEMENTARY INFORMATION: The synopsis of this document, WC Docket No. 05-25, RM-10593; DA 14-1328, is stated below. The full text of this document is also available for public inspection during regular business hours in the Commission's Reference Center, 445 12th Street SW., Room CY-A257, Washington, DC 20554. The complete text may be purchased from Best Copy and Printing, Inc., 445 12th Street SW., Room CY-B402, Washington, DC 20554, via telephone at 202 488-5300, via facsimile at 202 488-5563, or via email at the Commission's Web site.

Background

On December 11, 2012, the Commission adopted a Report and Order requiring providers and purchasers of special access and certain entities providing “best efforts” service to submit data and information for a comprehensive evaluation of the special access market. FCC 12-153, 78 FR 2572 (Jan. 11, 2013). In the accompanying FNPRM, the Commission sought comment on possible changes to its rules for granting pricing flexibility for the special access services provided by incumbent local exchange carriers in price cap areas. 78 FR 2600 (Jan. 11, 2013). The Commission invited interested parties to provide such comments after the Commission collected data for the market analysis to enable commenters to include analysis of such data in their comments. In the Report and Order, the Commission delegated authority to the Bureau to implement the data collection and obtain approval for the collection from the Office of Management and Budget (OMB) pursuant to the Paperwork Reduction Act of 1995 (44 U.S.C. 3501-3520). On August 15, 2014, the Commission obtained OMB's approval for the collection under OMB Control Number 3060-1197. On September 15, 2014, the Bureau released an order amending the collection to reflect the approval received from OMB and announcing a December 15, 2014 deadline by which parties are required to submit data and information. DA 14-1327 (Sept. 15, 2014).

Synopsis

The previous deadline for filing comments on section IV.B of the FNPRM was October 6, 2014 and November 17, 2014 for filing reply comments. 79 FR 15092 (March 18, 2014). Because collection of data must be completed and made available for review before parties can comment on the questions posed in the FNPRM, the Bureau extends the deadline for filing comments and reply comments in the special access proceeding. Accordingly, the Commission in this document, WC Docket No. 05-25, RM-10593; DA 14-1328, sets the new comment date as April 6, 2015 and the new reply comment date as May 18, 2015.

Comment Filing Procedures

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (May 1, 1998).

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8 a.m. to 7 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

People with Disabilities: To request materials in accessible formats for people with disabilities (braille, large print, electronic files, audio format), send an email to fcc504@fcc.gov or call the Consumer & Governmental Affairs Bureau, 202-418-0530 (voice), 202-418-0432 (tty).

The proceeding this Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Deena Shetler,
Associate Bureau Chief, Wireline Competition Bureau.

[FR Doc. 2014-22873 Filed 9-24-14; 8:45 am]

BILLING CODE 6712-01-P